COMMISSION ON CIVIL RIGHTS

Notice of Public Meeting of the South Carolina Advisory Committee

AGENCY: U.S. Commission on Civil Rights.

ACTION: Notice of meeting.

SUMMARY: Notice is hereby given, pursuant to the provisions of the rules and regulations of the U.S. Commission on Civil Rights (Commission) and the Federal Advisory Committee Act that the South Carolina Advisory Committee will hold a meeting on Wednesday, November 9, 2016, for the purpose of discussing potential projects.

DATES: The meeting will be held on Wednesday, November 9, 2016, 12:00 p.m. EST.

ADDRESSES: The meeting will be by teleconference. Toll-free call-in number: 888-397-0286, conference ID: 9589666.

SUPPLEMENTARY INFORMATION: Members of the public can listen to the discussion. This meeting is available to the public through the following toll-free call-in number: 888-397-0286, conference ID: 9589666. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are also entitled to submit written comments; the comments must be received in the regional office by October 30, 2016. Written comments may be mailed to the Southern Regional Office, U.S. Commission on Civil Rights, 61 Forsyth Street, Suite 16T126, Atlanta, GA 30303. They may also be faxed to the Commission at (404) 562-7005, or emailed to Regional Director, Jeffrey Hinton at jhinton@usccr.gov. Persons who desire additional information may contact the Southern Regional Office at (404) 562-7000.

Records generated from this meeting may be inspected and reproduced at the Southern Regional Office, as they become available, both before and after the meeting. Records of the meeting will be available via www.facadatabase.gov under the Commission on Civil Rights, South Carolina Advisory Committee link. Persons interested in the work of this Committee are directed to the Commission's Web site, http://www.usccr.gov, or may contact the Southern Regional Office at the above email or street address.

AGENDA:

Welcome and Call to Order

Walter Caudle, South Carolina SAC Chairman

Jeff Hinton, Regional Director

Regional Update—Jeff Hinton

Open Comment—Walter Caudle, South Carolina SAC Chairman

Staff/Advisory Committee

Public Participation

Adjournment

Dated: October 11, 2016.
David Mussatt,
Supervisory Chief, Regional Programs Unit.

[FR Doc. 2016-24939 Filed 10-14-16; 8:45 am]

BILLING CODE P